FEDERAL RESERVE SYSTEM

Notice of Proposals To Engage in or To Acquire Companies Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the question whether the proposal complies with the standards of section 4 of the BHC Act.

Unless otherwise noted, comments regarding the applications must be received at the Reserve Bank indicated or the offices of the Board of Governors, Ann E. Misback, Secretary of the Board, 20th Street and Constitution Avenue NW, Washington DC 20551-0001, not later than March 24, 2021.

A. Federal Reserve Bank of San Francisco (Sebastian Astrada, Director, Applications) 101 Market Street, San Francisco, California 94105-1579:

1. First Northwest Bancorp, Port Angeles, Washington; to acquire 50 percent of the voting shares of a de novo joint venture, Quin Ventures, Inc., New York, New York, and thereby indirectly extend credit and service loans, engage in activities related to credit bureau services, provide educational courses and instructional materials to consumers on individual financial management matters, and engage in certain data processing activities pursuant to section 225.28(b)(1), (b)(2)(v), (b)(6)(v) and (b)(14)(i) of the Board's Regulation Y, respectively.

Board of Governors of the Federal Reserve System, March 4, 2021.
Michele Taylor Fennell,
Deputy Associate Secretary of the Board.

[FR Doc. 2021-04874 Filed 3-8-21; 8:45 am]

BILLING CODE P